DEPARTMENT OF THE INTERIOR

Bureau of Land Management

[LLUTW02000-L51010000-ER0000-LVRWJ18J5120-18X—UTU-90095]

Notice of Availability of the Draft Environmental Impact Statement for the Sevier Playa Potash Project, Utah

AGENCY: Bureau of Land Management, Interior.

ACTION: Notice of availability.

SUMMARY: In accordance with the National Environmental Policy Act (NEPA) of 1969, as amended, the Federal Land Policy and Management Act of 1976, as amended, the Mineral Leasing Act of 1920, as amended, and Secretarial Order 3355, the Bureau of Land Management (BLM) is releasing the Draft Environmental Impact Statement (EIS) for Crystal Peak Minerals Inc.'s (CPM) Sevier Playa Potash Project (Project), and by this notice is announcing the opening of the comment period.

DATES: To ensure comments will be considered, the BLM must receive written comments on the Project Draft EIS within 45 days following the date the Environmental Protection Agency publishes its Notice of Availability in the Federal Register. The BLM will announce future meetings or hearings and any other public involvement activities at least 15 days in advance through public notices, media releases, and/or mailings.

ADDRESSES: You may submit comments related to the Draft EIS for the Project by any of the following methods:

• Email: blm_ut_fm_sevier_playa_potash_project@blm.gov.

• Fax: (435) 743-3136.

• Mail: Bureau of Land Management Fillmore Field Office, Attn: Clara Stevens—Sevier Playa Potash Project Comments, 95 East 500 North, Fillmore, UT 84631.

Electronic versions of the Project Draft EIS, appendices, and supporting documents can be downloaded from ePlanning at https://bit.ly/2CZPeWy. Paper and digital copies of the Project Draft EIS and supporting documents are available for review at:

(1) The BLM Fillmore Field Office at the above address;

(2) The BLM West Desert District Office at 2370 South Decker Lake Blvd., West Valley City, UT;

(3) The Fillmore City Library at 75 West Center, Fillmore, UT; and

(4) The Delta City Library at 76 North 200 West, Delta, UT.

FOR FURTHER INFORMATION CONTACT: Clara Stevens, Project Manager, telephone (435) 743-3119; address 95 East 500 North, Fillmore, UT 84631; email clsteven@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: On March 12, 2014, the BLM published a Notice of Intent to Prepare an EIS in the Federal Register (79 FR 14078).

The Project would be located in central Millard County in southwestern Utah. The Sevier Playa is a large terminal playa that is normally dry on the surface and contains subsurface potassium-bearing saline brines. The playa is approximately 26 miles long and averages 8 miles wide.

CPM holds or through agreement controls the rights to develop and operate potassium mineral leases on 117,814 acres of Federal lands administered by the BLM and an additional 6,409 acres of state lands. CPM proposes to exercise their lease rights by constructing and operating the Project, which would produce at its peak approximately 372,000 tons per year of potassium sulfate (K2SO4), also known as sulfate of potash (SOP), and related minerals over the 32-year lifetime of the Project.

The Project is a potash mine proposed on 124,223 acres of Federal and State mineral leases. The proposal includes mining facilities located on-lease with off-lease supporting infrastructure. On-lease facilities include evaporation ponds; a brine extraction system (trenches, wells, and conveyance canals); a recharge system (trenches, canals, and Sevier River diversion); a waste product storage area (purge brine and tailings); access roads, and processing facilities. The off-lease ROW facilities, proposed on approximately 4,135 acres, include power and communication lines, a natural gas pipeline, a rail loadout facility and rail spur; water supply wells; communication towers; preconcentration ponds; segments of recharge canals and the playa perimeter road; and access roads. Three gravel pits would also be developed.

Potassium-bearing brines would be extracted from trenches and wells on the Sevier Playa, and routed through a series of ponds, using solar evaporation to concentrate the brine. The preconcentration ponds would concentrate the brine causing halite (NaCl, table salt) and other non-commercial salts to precipitate. These salts would be stored in the preconcentration ponds. The saturated brine would be transferred to the production ponds for further evaporation, causing potassium-rich salts to precipitate. The production ponds would be harvested year-round, with the potassium-rich salts moved directly to a facility for processing into SOP. The SOP would be trucked to the rail loadout facility for distribution. Purge brine containing primarily magnesium chloride (MgCl2) would be removed from the production ponds before harvesting begins and would be piped to an on-playa purge brine storage pond. Process by-products (solid tailings) from the processing facility would be trucked to the on-playa tailings storage area.

The Draft EIS analyzes CPM's Mining Plan, prepared for development of Federal potassium mineral leases acquired in 2011 and potash mineral leases acquired on State lands. These leases were amalgamated under BLM casefile number UTU-88387. In addition, the Draft EIS analyzes CPM's request for rights-of-way (ROWs) to construct various ancillary facilities on public lands in the vicinity of the mineral leases, but outside the lease boundary. CPM prepared a Plan of Development (POD) for the ROWs that they have requested. The Draft EIS also analyzes CPM's request to purchase mineral materials for gravel to support construction and operation of the Project. Although the BLM may only make decisions pertaining to public lands managed by the BLM, the EIS analyzes the complete Project including portions located on state and private lands.

This Draft EIS evaluates, in detail, the no action alternative, the proposed action, and five action alternatives. Alternative 1 would route a cross-country segment of the off-lease 69-kV power and communication line to an alignment along existing roads, including SR 257 and SR-257 Cutoff Road. Alternative 2 would route a cross-country segment of the off-lease 69-kV power and communication line to a more southern orientation along existing roads, including Crystal Peak Road and Crystal Peak Spur Road. Alternative 3 would route a segment of the off-lease natural gas pipeline entirely on BLM land to avoid crossing private lands. Alternative 4 would route a cross-country segment of the off-lease natural gas pipeline to a similar alignment as Alternative 2 along existing roads, including Crystal Peak Road and Crystal Peak Spur Road. Alternative 5 is an alternative method of diverting flows from the Sevier River into the recharge system. This alternative would relocate the on-lease Sevier River diversion facilities, including diversion channel, recharge canal, diversion culvert and sump, and perimeter and access roads slightly to the west, within the boundary of the playa.

Based on public scoping and internal review, the principal issues analyzed in the Draft EIS include: (1) Impacts to water resources and water quality including adverse effects to surface water and groundwater basins, as well as impacts to existing water rights holders; (2) adverse effects to air quality in the form of fugitive dust produced during construction and operation of the mine facilities; (3) impacts to cultural resources and historic properties, including rock art and subsurface features; (4) impacts to migratory bird populations; and (5) the socioeconomic effects of water right acquisition for recharge water. Analysis also includes impacts to the following resources: Visual, wildlife, access, range management, recreation, and soils.

The BLM published a Notice of Intent for the Project on March 12, 2014. Scoping was extended through August 31, 2015, due to Project delays. A public scoping meeting was held in Delta, Utah, on August 5, 2015. The public was offered the opportunity to provide written comments throughout the scoping process.

In 2015, pursuant to Executive Order 13175, the BLM initiated government-to-government consultation with interested tribes, including the Confederated Tribes of the Goshute Reservation, the Hopi Tribe, the Kaibab Band of Paiute Indians, the Kanosh Band of Paiute Indians, the Navajo Nation, the Paiute Indian Tribe of Utah, the Skull Valley Band of Goshute, and the Ute Indian Tribe. Beginning in 2015, the BLM coordinated with the Utah State Historic Preservation Office and seven other consulting parties that requested to participate in the Section 106 process, to develop a Programmatic Agreement to outline a process to be used to avoid, mitigate, or treat adverse effects to historic properties.

In August 2015, the BLM invited agencies to participate as Cooperating Agencies in the Project. The following agencies accepted the invitation: The U.S. Department of Defense (Utah Test and Training Range), the U.S. Environmental Protection Agency, the U.S. Fish and Wildlife Service, the State of Utah, and Millard and Beaver Counties. These agencies and governments reviewed the Draft EIS before it was available to the public and their comments have been incorporated into the document.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Anita Bilbao,
Associate State Director.

[FR Doc. 2018-26076 Filed 11-29-18; 8:45 am]

BILLING CODE 4310-DQ-P